DEPARTMENT OF HEALTH AND HUMAN SERVICES

Agency for Healthcare Research and Quality

Meeting of the National Advisory Council on Healthcare Research and Quality Subcommittee on Quality Measures for Children's Healthcare

AGENCY: Agency for Healthcare Research and Quality, HHS.

ACTION: Notice of public meeting.

SUMMARY: In accordance with section 10(a) of the Federal Advisory Committee Act, 5 U.S.C. App. 2, this notice announces a meeting of the National Advisory Council on Healthcare Research and Quality Subcommittee on Quality Measures for Children's Healthcare.

DATES: The open meeting will be held on Wednesday, September 12, 2012, from 8 a.m. to 5 p.m.

ADDRESSES: Bethesda Marriott Hotel, 5151 Pooks Hill Road, Bethesda, Maryland 20814.

FOR FURTHER INFORMATION CONTACT: Preyanka Makadia, Office of Extramural Research, Education, and Priority Populations (OEREP), Agency for Healthcare Research and Quality, 540 Gaither Rd., Rockville, MD 20850, Email: PREYANKA.MAKADIA@AHRQ.hhs.gov, Phone: (301) 427-1538.

If sign language interpretation or other reasonable accommodation for a disability is needed, please contact Preyanka Makadia, no later than August 15, 2012.

SUPPLEMENTARY INFORMATION:

I. Purpose

The National Advisory Council for Healthcare Research and Quality (NAC) was established in accordance with Section 9341 of the Public Health Service Act, 42 U.S.C. 299c. In accordance with its statutory mandate, the Council is to advise the Secretary of the Department of Health and Human Services (DHHS) and the Director, Agency for Healthcare Research and Quality (AHRQ), on matters related to AHRQ's conduct of its mission including providing guidance on (A) priorities for healthcare research, (B) the field of health care research including training needs and information dissemination on healthcare quality and (C) the role of the Agency in light of private sector activity and opportunities for public private partnerships. The Council is composed of members of the public, appointed by the Secretary, and Federal ex-officio members specified in the authorizing legislation.

2. Background

AHRQ's NAC has established a Subcommittee on Quality Measures for Children's Healthcare (SNAC). Section 401(a) of the Children's Health Insurance Program Reauthorization Act of 2009 (CHIPRA), Public Law 111-3, amended the Social Security Act to enact section 1139A (42 U.S.C. 1320b-9a). Section 1139A(b) charged the Department of Health and Human Services (HHS) with improving pediatric health care quality measures. The Secretary of DHHS posted the initial core set of children's health care quality measures for public comment on December 29, 2009, in Volume 74, No. 248 of the Federal Register (http://OIG.hhs.gov/authorities/docs/2010/fr notice 12302009.pdf). The Subcommittee was created to provide advice to the NAC as AHRQ undertakes responsibilities to improve the initial core quality measure set and develop and test a portfolio of evidence-based, consensus pediatric quality measures for potential use by public and private programs. AHRQ is working closely with the Centers for Medicare and Medicaid Services (CMS) in implementing these provisions, including public posting of improvements to the initial core quality measure set and other CHIPRA purposes (i.e., for use by public and private programs other than, or in addition to, Medicaid and CHIP). For more information about AHRQ's role in carrying out the quality provisions of CHIPRA, see http://www.AHRQ.gov/CHIPRA. A roster of the Subcommittee members is available at http://www.AHRQ.gov/CHIPRA/QMSNACLIST12.htm. The September 12, 2012 meeting will be held as a part of this effort.

The Secretary will post an improved and enhanced core set of health care quality measures for voluntary use by Medicaid and CHIP by Jan 1, 2013, and annually thereafter. On February 24, 2012, AHRQ solicited public nomination of children's health care quality measures for inclusion in the CHIPRA 2013 Improved Core Set of Health Care Quality Measures.

On September 12, 2012, the SNAC will assess measures submitted by the public in response to a solicitation posted on February 24, 2012 (CHIPRA Federal Register notice number 2012-4267) (http://www.GPO.gov/fdsys/pkg/FR-2012-02-24/pdf/2012-4267.pdf), as well as measures submitted by AHRQ-CMS Pediatric Quality Measures Program Centers of Excellence (see http://www.AHRQ.gov/CHIPRA/PQMPFACT.htm for details). AHRQ will solicit measures again in 2013 and 2014 and the SNAC will meet in September of 2013 and 2014 to review these measures.

The agenda for the September 12, 2012 meeting will be available on the AHRQ Web site at http://www.AHRQ.gov/CHIPRA no later than September 5, 2012.

Dated: August 2, 2012.
Carolyn M. Clancy,
Director.

[FR Doc. 2012-19470 Filed 8-9-12; 8:45 am]

BILLING CODE 4160-90-M